FEDERAL DEPOSIT INSURANCE CORPORATION

12 CFR Part 327

RIN 3064-AD66

Assessments, Large Bank Pricing

AGENCY: Federal Deposit Insurance Corporation (FDIC).

ACTION: Final rule; correction.

SUMMARY: The FDIC is correcting a final rule that appeared in the Federal Register of February 25, 2011 (76 FR 10672), regarding Assessments, Large Bank Pricing. This correction clarifies words of amendatory instruction numbered 8 on page 10720.

DATES: Effective Date: April 1, 2011.

FOR FURTHER INFORMATION CONTACT: Christopher Bellotto, Counsel, Legal Division, (202) 898-3801, 550 17th Street, NW., Washington, DC 20429.

SUPPLEMENTARY INFORMATION: In FR Doc. 2011-3086, appearing on page 10720 in the Federal Register of Friday, February 25, 2011, the following correction is made:

On page 10720, in the third column, amendatory instruction 8 is revised, and asterisks and a section VI heading are added below the Appendix A heading to read as follows:

8. Amend appendix A to subpart A of part 327 by adding section VI, and revise appendices B and C to subpart A of part 327 to read as follows:

Appendix A to Subpart A of Part 327—Description of Scorecard Measures

* * * * *

VI. Description of Scorecard Measures

Dated: March 25, 2011.
Federal Deposit Insurance Corporation.
Robert E. Feldman,
Executive Secretary.

[FR Doc. 2011-7457 Filed 3-29-11; 8:45 am]

BILLING CODE 6714-01-P